DEPARTMENT OF TRANSPORTATION

National Highway Traffic Safety Administration

23 CFR Parts 1200, 1205, 1206, 1250, 1251, 1252, 1313, 1335, 1345, 1350

[Docket No. NHTSA-2013-0001]

RIN 2127-AL30; RIN 2127-AL29

Uniform Procedures for State Highway Safety Grant Programs

AGENCY: National Highway Traffic Safety Administration (NHTSA), Department of Transportation (DOT).

ACTION: Interim final rule; reopening of comment period.

SUMMARY: NHTSA is extending through September 30, 2013, the period for interested persons to submit comments to its Interim Final Rule that that established new uniform procedures governing the implementation of State highway safety grant programs as amended by the Moving Ahead for Progress in the 21st Century Act (MAP-21).

DATES: The comment period for the interim final rule published January 23, 2013, at 78 FR 4986, is reopened. Comments must be received by September 30, 2013. Comments received after that date will be considered to the extent possible.

ADDRESSES: Written comments to NHTSA may be submitted using any one of the following methods:

• Mail: Send comments to: Docket Management Facility, M-30, U.S. Department of Transportation, 1200 New Jersey Avenue SE., West Building, Room W12-140, Washington, DC 20590.

• Fax: Written comments may be faxed to (202) 493-2251.

• Internet: To submit comments electronically, go to the U.S. Government regulations Web site at http://www.regulations.gov. Follow the online instructions for submitting comments.

• Hand Delivery: If you plan to submit written comments by hand or courier, please do so at 1200 New Jersey Avenue SE., West Building, Ground Floor, Room W12-140, Washington, DC, between 9 a.m. and 5 p.m., Eastern Time, Monday through Friday, except Federal holidays.

Whichever way you submit your comments, please remember to identify the docket number of this document within your correspondence. You may contact the docket by telephone at (202) 366-9324. Note that all comments received will be posted without change to http://www.regulations.gov, including any personal information provided.

Privacy Act: Please note that anyone is able to search the electronic form of all comments received into any of our dockets by the name of the individual submitting the comment (or signing the comment, if submitted on behalf of an association, business, labor union, etc.). You may review DOT's complete Privacy Act Statement in the Federal Register published on April 11, 2000 (65 FR 19477) or you may visit http://dms.dot.gov.

Docket: All documents in the dockets are listed in the http://www.regulations.gov index. Publicly available docket materials are available either electronically in www.regulations.gov or in hard copy at the Docket Management Facility, M-30, U.S. Department of Transportation, West Building, Ground Floor, Room W12-140, 1200 New Jersey Avenue SE., Washington, DC. The Docket Management Facility is open between 9 a.m. and 5 p.m., Eastern Time, Monday through Friday, except Federal holidays.

FOR FURTHER INFORMATION CONTACT: For program issues: Dr. Mary D. Gunnels, Associate Administrator, Regional Operations and Program Delivery, National Highway Traffic Safety Administration, Telephone number: (202) 366-2121; Email: Maggi.Gunnels@dot.gov. For legal issues: Ms. Jin Kim, Attorney-Advisor, Office of the Chief Counsel, National Highway Traffic Safety Administration, Telephone number: (202) 366-1834; Email: Jin.Kim@dot.gov.

SUPPLEMENTARY INFORMATION: On January 23, 2013 (78 FR 4986), NHTSA published an interim final rule (IFR) in the Federal Register that established new uniform procedures governing the implementation of State highway safety grant programs as amended by the Moving Ahead for Progress in the 21st Century Act (MAP-21). It also reorganized and amended existing requirements to implement the provisions of MAP-21. In the notice, NHTSA established a deadline of April 23, 2013 for submission of written comments and stated that the agency would publish a notice responding to any comments received and, if appropriate, amend provisions of the regulation.

The notice was issued as an IFR to provide timely guidance about the application procedures for national priority safety program grants in fiscal year 2013 and all Chapter 4 highway safety grants beginning in fiscal year 2014. Since the publication of the IFR, States have submitted their fiscal year 2013 applications (March 25, 2013), and States are preparing their fiscal year 2014 applications which are due July 1, 2013. In order to ensure that interested parties, especially States, have adequate time to comment on the IFR, NHTSA is extending the comment period until September 30, 2013. This extension will provide States with an additional opportunity to comment on the IFR based on their experience submitting applications for two fiscal years' grants. We encourage States and interested parties to submit any additional comments that will help the agency address concerns about the IFR.

Issued in Washington, DC, on: June 25, 2013 under authority delegated in 49 CFR 1.95; 49 CFR 501.8(g).
Brian McLaughlin,
Senior Associate Administrator, Traffic Injury Control, National Highway Traffic Safety Administration.

[FR Doc. 2013-15751 Filed 7-1-13; 8:45 am]

BILLING CODE 4910-59-P